DEPARTMENT OF COMMERCE

National Oceanic and Atmospheric Administration

Agency Information Collection Activities; Submission to the Office of Management and Budget (OMB) for Review and Approval; Comment Request; Generic Clearance for NOAA Citizen Science and Crowdsourcing Projects (New)

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before October 25, 2022.

ADDRESSES: Interested persons are invited to submit written comments to Adrienne Thomas, NOAA PRA Officer, at NOAA.PRA@noaa.gov. Do not submit Confidential Business Information or otherwise sensitive or protected information.

FOR FURTHER INFORMATION CONTACT: Requests for additional information or specific questions related to collection activities should be directed to Dr. Joe Terry, Office of Science and Technology, 1315 East West Hwy., Building SSMC3, Silver Spring, MD 20910-3282, (858) 454-2547, joe.terry@noaa.gov.

SUPPLEMENTARY INFORMATION:

I. Abstract

NOAA is requesting approval for a new generic clearance for its citizen science and crowdsourcing projects and approval for those citizen science and crowdsourcing existing collections in use without an OMB control number. The generic clearance would allow NOAA to do the following: (1) be more responsive to the Citizen Science and Crowdsourcing Act (15 U.S.C. 3724), as well as the other laws and Executive Orders (E.O.) listed under Legal Authority in Section III, (2) more rapidly and efficiently come into compliance with the PRA and, therefore, (3) obtain additional scientific information that supports its mission to understand and predict changes in climate, weather, ocean, and coasts, to share that knowledge and information with others, and to conserve and manage coastal and marine ecosystems and resources.

NOAA relies on scientific information. Citizen science and crowdsourcing techniques will allow NOAA to collect qualitative and quantitative data that might help inform scientific research and monitoring, validate models or tools, support STEM learning, and enhance the quantity and quality of data collected to support NOAA's mission. Information gathered under this generic clearance will be used by NOAA to support the activities listed above and might provide unprecedented avenues for conducting breakthrough research. Collections under this generic clearance will be from participants who actively seek to participate on their own initiative through an open and transparent process (NOAA does select participants or require participation); collections will be low-cost for both the participants and the Federal Government; and the data will be available to support the scientific research (including assessments, tools, models, etc.) of NOAA and its partners. Its partners include states, tribal or local entities, business or other for-profit organizations, and not-for-profit institutions or organizations. NOAA may, by virtue of collaborating with other federal agencies and/or non-federal entities, sponsor the collection of this type of information in connection with citizen science or crowdsourcing projects. All collections must comply with NOAA policies and the scope of this generic clearance, which includes, but is not limited to, the natural, applied, social, and cultural sciences as they apply to crowdsourcing and citizen science activities. Finally, personally identifiable information (PII) will only be collected when necessary and in accordance with applicable federal procedures and policies. If a new collection is not within the parameters of this generic clearance, NOAA will submit a separate information collection request to OMB for approval of that new collection.

III. Data

OMB Control Number: 0648-XXXX.

Form Number(s): None.

Type of Review: Regular submission (new generic clearance for its citizen science and crowdsourcing projects and approval for those citizen science and crowdsourcing existing collections in use without an OMB control number).

Affected Public: Individuals or households; Business or other for-profit organizations; Not-for-profit institutions or organization; State, Local, or Tribal government; and Federal government; Farms.

Estimated Number of Respondents: 1,372,414.

Estimated Time per Response: 9.0 minutes average with a range from 1 minutes to 8 hours, depending on the project.

Estimated Total Burden Hours: 3,116,328.

Estimated Total Annual Cost to Public: $97,932.

Respondent's Obligation: Voluntary.

Legal Authority: Crowdsourcing and Citizen Science Act; Magnuson-Stevens Fishery Conservation and Management Act (MSA); Marine Mammal Protection Act (MMPA); National Marine Sanctuaries Act (NMSA); Harmful Algal Bloom and Hypoxia Research and Control Act (HABHRCA); Coastal Zone Management Act (CZMA); Coral Reef Conservation Program (CRCP); Digital Coast Act (DAC); Ocean and Coastal Mapping Integration Act (OCMIA); Weather Research and Forecasting Innovation Act (WRFIA); Endangered Species Act (ESA); National Environmental Policy Act (NEPA); The National Environmental Education Act, E.O. 12866 (Regulatory Planning and Review); E.O. 12898 (Environmental Justice); E.O. 13985 (Advancing Racial Equity and Support for Underserved Communities); and E.O. 14008 (Climate Crisis).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-18461 Filed 8-25-22; 8:45 am]

BILLING CODE 3510-12-P